DEPARTMENT OF TRANSPORTATION

Federal Aviation Administration

Office of Commercial Space Transportation; Notice of Availability of the Finding of No Significant Impact (FONSI) for Issuing or Modifying Launch Licenses for Space Exploration Technologies Corp. (SpaceX) Falcon Launch Vehicle Landings at Landing Complex-1 at Cape Canaveral Air Force Station (CCAFS), Florida

AGENCY: Federal Aviation Administration (FAA), Department of Transportation (DOT).

ACTION: Notice of availability of the FONSI.

SUMMARY: In accordance with the National Environmental Policy Act of 1969, as amended (NEPA; 42 United States Code 4321 et seq.), Council on Environmental Quality NEPA implementing regulations (40 Code of Federal Regulations [CFR] parts 1500 to 1508), and FAA Order 1050.1F, Environmental Impacts: Policies and Procedures, the FAA is announcing the availability of a FONSI, based on the analysis and findings of the U.S. Air Force's (USAF's) December 2014 Environmental Assessment for the Space Exploration Technologies Vertical Landing of the Falcon Vehicle and Construction at Launch Complex 13 at Cape Canaveral Air Force Station Florida (EA). Subsequent to the USAF issuing the EA, Launch Complex-13 was renamed to Landing Complex-1 (LC-1).

FOR FURTHER INFORMATION CONTACT: Mr. Daniel Czelusniak, Environmental Specialist, Federal Aviation Administration, 800 Independence Ave. SW., Room 325, Washington, DC 20591; email Daniel.Czelusniak@faa.gov; or phone (202) 267-5924.

SUPPLEMENTARY INFORMATION: The FAA participated as a cooperating agency with the USAF in the preparation of the EA, which evaluated the potential environmental impacts of SpaceX conducting vertical landings of a Falcon launch vehicle first stage at LC-1 at CCAFS, as well as related construction. Landings could include a Falcon 9 first stage or a single core of a Falcon Heavy first stage. The National Aeronautics and Space Administration also participated as a cooperating agency in the preparation of the EA.

As the Proposed Action would require Federal actions (as defined in 40 CFR 1508.18) involving the USAF and the FAA, the EA was prepared to satisfy the NEPA obligations of both agencies. The USAF issued a FONSI on January 8, 2015, which stated that the potential environmental impacts associated with the Proposed Action would not individually or cumulatively have a significant impact on the quality of the human environment, and therefore the preparation of an environmental impact statement (EIS) was not required. The FAA has formally adopted the EA and also issued a FONSI to support the issuance of new launch licenses or modify existing launch licenses to allow SpaceX to conduct Falcon landings at LC-1.

The Proposed Action analyzed in the EA consists of SpaceX conducting Falcon landings at LC-1 and construction activities, including land clearing, construction of landing pads, and supporting infrastructure modifications at LC-1. SpaceX anticipates no more than 12 landings per year (one per month). Operations at LC-1 would also include post-flight landing and safing activities. The FAA's Proposed Action is to issue new launch licenses or modify existing launch licenses to allow SpaceX to conduct vertical landings of a Falcon launch vehicle first stage at CCAFS. Alternatives analyzed as part of the FONSI include the Proposed Action and the No Action Alternative. Under the No Action Alternative, the FAA would not issue or modify launch licenses to allow SpaceX to conduct Falcon landings at CCAFS. The Falcon first stage would continue to land in the Atlantic Ocean.

Based on its independent review and consideration, the FAA issued a FONSI concurring with the analysis of impacts and findings in the EA and formally adopting the EA to support issuing new launch licenses or modifying existing launch licenses to allow SpaceX to conduct vertical landings of a Falcon launch vehicle first stage at CCAFS. After reviewing and analyzing available data and information on existing conditions, potential impacts, and measures to mitigate those impacts, the FAA has determined that issuing or modifying launch licenses to allow SpaceX to conduct vertical landings of a Falcon launch vehicle first stage at CCAFS is a Federal action that would not significantly affect the quality of the human environment within the meaning of NEPA. Therefore, the preparation of an EIS is not required, and the FAA has issued a FONSI. The FAA made this determination in accordance with all applicable environmental laws and FAA regulations.

The FAA has posted the EA and FONSI on the internet at http://www.faa.gov/about/office_org/headquarters_offices/ast/environmental/nepa_docs/review/launch/.

Issued in Washington, DC, on December 15, 2015.
Daniel Murray,
Manager, Space Transportation Development Division.

[FR Doc. 2015-32158 Filed 12-21-15; 8:45 am]

BILLING CODE 4910-13-P